DEPARTMENT OF HEALTH AND HUMAN SERVICES

Centers for Disease Control and Prevention

Informational Meeting: The Importation of Infectious Biological Agents, Infectious Substances and Vectors; Public Webinar

AGENCY: Centers for Disease Control and Prevention (CDC), Department of Health and Human Services (HHS).

ACTION: Notice of public webinar.

SUMMARY: The HHS/CDC's Division of Select Agents and Toxins (DSAT) is hosting a public webinar to provide information about import permit regulations for infectious biological agents, infectious substances, and vectors. Besides the CDC, presenters will include representatives from the Department of Transportation, Animal and Plant Health Inspection Service, U.S. National Authority for Containment of Poliovirus, Customs and Border Protection, and the Department of Commerce, who will discuss key aspects involved in the importation of infectious biological agents, infectious substances, and vectors.

DATES: The webinar will be held December 2, 2021 from 11:00 a.m. to 4:00 p.m. (EST). Registration instructions are found on the HHS/CDC Import Permit Program website, https://www.cdc.gov/cpr/ipp/index.htm.

ADDRESSES: The webinar will be broadcast from the Centers for Disease Control and Prevention, 1600 Clifton Road NE, Atlanta, Georgia 30329.

FOR FURTHER INFORMATION CONTACT: Samuel S. Edwin, Ph.D., Director, DSAT, Center for Preparedness and Response, CDC, 1600 Clifton Road NE, MS H-21-7, Atlanta, Georgia 30329. Telephone: (404) 718-2000; email: lrsat@cdc.gov.

SUPPLEMENTARY INFORMATION: This webinar is an opportunity for all interested parties (e.g., academic institutions; biomedical centers; commercial manufacturing facilities; federal, state, and local laboratories, including clinical and diagnostic laboratories; research facilities; exhibition facilities; and educational facilities) to obtain specific guidance and information regarding import permit regulations and the shipment of infectious biological materials. The webinar will provide information to those interested in applying for an import permit from federal agencies within the United States. Instructions for registration are found on the CDC Import Permit Program website, https://www.cdc.gov/cpr/ipp/index.htm.

Participants must register by November 26, 2021. This is a webinar-only event and there will be no on-site participation at CDC.

Dated: October 4, 2021.
Sandra Cashman,
Executive Secretary, Centers for Disease Control and Prevention.

[FR Doc. 2021-22044 Filed 10-7-21; 8:45 am]

BILLING CODE 4163-18-P